DEPARTMENT OF STATE

[Public Notice: 10376]

In the Matter of the Amendment of the Designation of Lashkar-e-Tayyiba (and Other Aliases) as a Foreign Terrorist Organization Pursuant to Section 219 of the Immigration and Nationality Act, as Amended

Based upon a review of the Administrative Record assembled pursuant to Section 219 of the Immigration and Nationality Act, as amended (8 U.S.C. 1189) (“INA”), and in consultation with the Attorney General and the Secretary of the Treasury, I have concluded that there is a sufficient factual basis to find that the following are aliases of Lashkar-e-Tayyiba (and other aliases): Tehreek-e-Azadi-e-Kashmir, also known as Kashmir Freedom Movement, also known as Tehreek Azadi Jammu and Kashmir, also known as Tehreek-e-Azadi Jammu and Kashmir, also known as TAJK, also known as Movement for Freedom of Kashmir, also known as Tehrik-i-Azadi-i Kashmir, also known as Tehreek-e-Azadi-e-Jammu and Kashmir, also known as Milli Muslim League, also known as Milli Muslim League Pakistan, also known as MML.

Therefore, pursuant to Section 219(b) of the INA, as amended (8 U.S.C. 1189(b)), I hereby amend the designation of Lashkar-e-Tayyiba as a foreign terrorist organization to include the following new aliases: Tehreek-e-Azadi-e-Kashmir, also known as Kashmir Freedom Movement, also known as Tehreek Azadi Jammu and Kashmir, also known as Tehreek-e-Azadi Jammu and Kashmir, also known as TAJK, also known as Movement for Freedom of Kashmir, also known as Tehrik-i-Azadi-i Kashmir, also known as Tehreek-e-Azadi-e-Jammu and Kashmir, also known as Milli Muslim League, also known as Milli Muslim League Pakistan, also known as MML.

This determination shall be published in the Federal Register.

Dated: March 24, 2018.
John J. Sullivan,
Deputy Secretary of State.

[FR Doc. 2018-06767 Filed 4-3-18; 8:45 am]

BILLING CODE 4710-AD-P